FEDERAL COMMUNICATIONS COMMISSION

Information Collection(s) Being Reviewed by the Federal Communications Commission for Extension Under Delegated Authority, Comments Requested

AGENCY: Federal Communications Commission.

ACTION: Notice; request for comments.

SUMMARY: As part of its continuing effort to reduce paperwork burden and as required by the Paperwork Reduction Act (PRA) of 1995 (44 U.S.C. 3502-3520), the Federal Communications Commission invites the general public and other Federal agencies to take this opportunity to comment on the following information collection(s). Comments are requested concerning: whether the proposed collection of information is necessary for the proper performance of the functions of the Commission, including whether the information shall have practical utility; the accuracy of the Commission's burden estimates; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before August 20, 2012. If you anticipate that you will be submitting PRA comments, but find it difficult to do so within the period of time allowed by this notice, you should advise the FCC contact listed below as soon as possible.

ADDRESSES: Submit your PRA comments to Nicholas A. Fraser, Office of Management and Budget, via fax at 202-395-5167 or via Internet at Nicholas_A._Fraser@omb.eop.gov <mailto:Nicholas_A._Fraser@omb.eop.gov> and to Judith B. Herman, Federal Communications Commission, via the Internet at judith-b.herman@fcc.gov. To submit your PRA comments by email send them to: PRA@fcc.gov.

FOR FURTHER INFORMATION CONTACT: Judith B. Herman, Office of Managing Director, FCC, at 202-418-0214.

SUPPLEMENTARY INFORMATION: OMB Control Number: 3060-1169.

Title: Part 11—Emergency Alert System (EAS), Fifth Report and Order, FCC 12-7.

Form No.: N/A.

Type of Review: New collection.

Respondents: Business or other for-profit, not-for-profit institutions, and state, local or tribal government.

Number of Respondents: 10 respondents; 20 responses.

Estimated Time per Response: 20 hours.

Frequency of Response: On occasion reporting requirement and recordkeeping requirement.

Obligation to Respond: Voluntary. Statutory authority for this information collection is contained in 47 U.S.C. 154(i) and 606 of the Communications Act of 1934, as amended.

Total Annual Burden: 400 hours.

Total Annual Cost: N/A.

Privacy Act Impact Assessment: N/A.

Nature and Extent of Confidentiality: There is no need for confidentiality.

Needs and Uses: The Commission will submit this expiring information collection to the Office of Management and Budget (OMB) after this comment period in order to obtain approval from them for the full three year clearance period.

Part 11 contains rules and regulations addressing the nation's Emergency Alert System (EAS). The EAS provides the President with the capability to provide immediate communications and information to the general public at the national, state and local area level during periods of national emergency. The EAS also provides state and local governments and the National Weather Service with the capability to provide immediate communications and information to the general public concerning emergency situations posting a threat to life and property.

For this new collection, the Commission is requesting emergency OMB review and processing for the reporting and recordkeeping requirements in the Fifth Report and Order, FCC 12-7. The Commission amended its Part 11 rules governing the EAS to more fully codify the existing obligation to process Common Alerting Protocol (CAP)-formatted alert messages adopted in the Second Report and Order.

Certification procedures for meeting general certification requirements are under 47 CFR 11.34. Paragraphs 164-167, 107-171, and 175-176 in the Fifth Report and Order, establish that integrated CAP-capable EAS devices and intermediate devices that are used in tandem with legacy EAS equipment are subject to the Commission's existing device certification requirements set forth in the Commission's Part 2 equipment authorization rules. These paragraphs also establish specific procedures by which EAS device manufacturers can update existing device certifications and obtain new certifications, which generally involve the submission of test data and other materials to the FCC.

The information collected by the Commission is used to confirm that EAS devices comply with the technical and performance requirements set forth in the EAS rules and other applicable rules maintained by the Commission. These rules are designed to minimize electrical radiofrequency interference and to ensure that the EAS, including individual devices within the EAS, operate at intended.

Federal Communications Commission.
Marlene H. Dortch,
Secretary, Office of the Secretary, Office of Managing Director.

[FR Doc. 2012-14946 Filed 6-19-12; 8:45 am]

BILLING CODE 6712-01-P